DEPARTMENT OF ENERGY

Federal Energy Regulatory Commission

Combined Notice of Filings #1

Take notice that the Commission received the following exempt wholesale generator filings:

Docket Numbers: EG16-134-000.

Applicants: ID Solar 1, LLC.

Description: Notice of Self-Certification of ID Solar 1, LLC of Exempt Wholesale Generator Status.

Filed Date: 8/10/16.

Accession Number: 20160810-5185.

Comments Due: 5 p.m. ET 8/31/16.

Take notice that the Commission received the following electric rate filings:

Docket Numbers: ER16-2398-000.

Applicants: Midcontinent Independent System Operator, Inc., Ameren Illinois Company.

Description: Section 205(d) Rate Filing: 2016-08-10_SA 2936 Ameren Illinois-Norris Electric Coop Switching Agreement to be effective 8/2/2016.

Filed Date: 8/10/16.

Accession Number: 20160810-5146.

Comments Due: 5 p.m. ET 8/31/16.

Docket Numbers: ER16-2399-000.

Applicants: Sierra Pacific Power Company.

Description: Tariff Cancellation: Rate Schedule No. 64 SPPC and Mt Wheeler EPC Termination to be effective 8/11/2016.

Filed Date: 8/10/16.

Accession Number: 20160810-5176.

Comments Due: 5 p.m. ET 8/31/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 10, 2016.
Nathaniel J. Davis, Sr.,
Deputy Secretary.

[FR Doc. 2016-19467 Filed 8-15-16; 8:45 am]

BILLING CODE 6717-01-P